NUCLEAR REGULATORY COMMISSION

Advisory Committee on Reactor Safeguards; Meeting of the ACRS Subcommittee on Metallurgy & Reactor Fuels; Cancellation of the October 21, 2016, ACRS Subcommittee Meeting

The ACRS Subcommittee meeting on Metallurgy & Reactor Fuels scheduled for October 21, 2016 (new date), 8:30 a.m. until 12:00 p.m., has been cancelled.

The notice of this meeting was previously published in the Federal Register on Tuesday, October 4, 2016, (81 FR 68461).

Information regarding this meeting can be obtained by contacting Christopher Brown, Designated Federal Official (DFO) (Telephone 301-415-7111 or Email: Christopher.Brown@nrc.gov) between 7:30 a.m. and 5:15 p.m. (EST)).

Dated: October 5, 2016.
Mark L. Banks,
Chief, Technical Support Branch, Advisory Committee on Reactor Safeguards.

[FR Doc. 2016-24885 Filed 10-13-16; 8:45 am]

BILLING CODE 7590-01-P